DEPARTMENT OF COMMERCE

Foreign-Trade Zones Board

[B-64-2019]

Foreign-Trade Zone (FTZ) 33—Pittsburgh, Pennsylvania; Notification of Proposed Production Activity; Steelite International USA, Inc. (Hospitality Industry Serveware); New Castle, Pennsylvania

Steelite International USA, Inc. (Steelite) submitted a notification of proposed production activity to the FTZ Board for its facility in New Castle, Pennsylvania. The notification conforming to the requirements of the regulations of the FTZ Board (15 CFR 400.22) was received on October 3, 2019.

The Steelite facility is located within FTZ 33. The facility will be used for production of tableware and serveware for the hotel and restaurant industries. Pursuant to 15 CFR 400.14(b), FTZ activity would be limited to the specific foreign-status materials and components and specific finished products described in the submitted notification (as described below) and subsequently authorized by the FTZ Board.

Production under FTZ procedures could exempt Steelite from customs duty payments on the foreign-status components used in export production. On its domestic sales, for the foreign-status materials/components noted below, Steelite would be able to choose the duty rates during customs entry procedures that apply to: brass faucet body for juice dispenser combined with shank; buffet transport cart; buffet display cart; buffet display with melamine trays; carving board set with heat lamp; chafer for use with a grill (butane, electric, or Sterno®); chrome-plated chafer knob; coffee urn (electric heat); glass shelving for buffet display with stainless steel stand; granite carving board with stainless steel frame; ice box with plastic inserts; complete induction food warming table; complete induction heating stand; polycarbonate carving board with stainless steel frame; buffet set including wooden risers, steel stand with glass shelves, and induction warmers with their parts; cast iron chafer (for use with any heat source); various steel products (heat lamp; induction chafer; chafer with electric heat; soup heater (electric heat)); various stainless steel products (insulated coffee urn; body for insulated coffee urn with faucet, clamp, and faucet seal washer; chafer and frame (used with electric heat and Sterno®); insulated coffee urn cover; juice dispenser cover with knob; ice box with plastic inserts; ice cream box; insulated milk container; pastry stand with trays; circular seafood display (elevated platter); bucket; plastic coated buffet riser; carving station frame; beverage tub); various polycarbonate juice dispensers (with stainless steel frame and stand; with stainless steel faucet and without cover; with silver-plated stainless steel cover and stand; with stainless steel cover and stand; with stainless steel cover and wood stand; with stainless steel frame); various polycarbonate juicers (with stainless steel cover and stand; with stainless steel frame; with stainless steel frame and wood stand); various iron or steel products (portable grill; grill cooker for use with solid fuel; Sterno® chafer; Sterno® grill riser box; Sterno® chafer frame; stand for portable grill with aluminum plate and iron or steel frame); various silver-plated stainless steel products (faucet insert set for chafer; insulated urn; circular seafood display (elevated platter); stand for polycarbonate juice dispenser; round grill chafer cover; coffee pot); and, various wood products (juice dispenser stand; buffet display set (primarily wooden with minority stainless steel risers and glass shelves); carving board) (duty rate ranges from duty-free to 7.2%). Steelite would be able to avoid duty on foreign-status components which become scrap/waste. Customs duties also could possibly be deferred or reduced on foreign-status production equipment.

The components and materials sourced from abroad include: various aluminum components (disk for chafers and/or soup heaters to regulate heat; pastry stand with shelves; plate for butane cooker and carving board frame; plate for induction warmer set; tray); base for stainless steel pastry stand; buffet display cart and/or transport cart components (bungee strap (elastic); foam liner); burner holder for induction chafer; ceramic tile; chrome-plated faucet body set for juice dispenser; double-sided Velcro®; electric heat plate for induction warmer; electric heater and/or heater plate for use with chafers; electric toggle switch for heat lamp; electric wire; faucet nut and juicer shank for juice dispenser; glass shelving for buffet display; granite carving board; insulated wire nut; nut for insulated coffee urn; iron rod base for buffet display; melamine tray; on and off plate for toggle switch for heat lamp; porcelain pan for chafer; power cord and plug; PVC rod; raw steel buffet stand; ring terminal; silicone adhesive; silicone seat cup; stem for stainless steel chrome-plated faucet; strain relief fitting for heat lamp; thread lock adhesive; frame for multi-use chafer stainless steel with silver plating; heat lamp light bulb; cast iron chafer; various steel components (base of heat lamp; handle for carving board set; buffet display cart and/or transport cart and its parts (divider; frame; glass trunk; shelf; ID tag; bumper rail); electric heating food warmer; heat lamp shade; heat plate for induction warmer; induction chafer without stand; induction warmer; induction warmer adapter; induction warmer stand and frame; induction warming plate; lamp socket; grill grate for induction warmer set; bridge for buffet table; magnetic socket holder for buffet table; adapter to convert Sterno® holder to electric heater holder; ring for juice dispenser faucet nuts; plastic-coated buffet riser; warming plate for induction chafer; induction heater; induction heater adapter; heat lamp post; induction heater carving station); various brass components (chafer knob; juice dispenser parts (faucet adapter; faucet body without shank; faucet bonnet; faucet handle; faucet; handle; knob); foot cover-up for chafer legs; handle (for carving board set; for ice cream box; for insulated urn); chafer cover knob; chafer leg; chafer side handle); various rubber components (buffet display cart and/or transport cart parts (bumper; edge; wheel (with steel connector)); bumper; edge; buffet cart wheel); various plastic components (buffet display cart and/or transport cart parts (curtain divider; divider clip; lamp clip); ice box parts (cover; ice mold; insert; pan); faucet seal washer; post for glass shelves; resin shelf for buffet display; attaching strip for buffet cart curtain; washer; buffet cart wheels); various iron or steel components (flange stud; Sterno® chafer frame; helical spring clamp; insert adapter for top of chafer (Sterno®); non-flange stud; pan head screw; adapter plate to convert between quart capacity for soup heater; Sterno® chafer cover; grill grate for use with solid fuel; locknut; lockwasher; holder for electric heater holder for chafer; Sterno® chafer holder; Sterno® chafer stand; washer; water pan (for use with Sterno® chafers); Sterno® grill riser box; thumb screw; circular heat lamp base; spring; screw; thumb nut for Sterno® chafer; nut; frame for butane grill; hex head bolt; insert pan for soup heater (Sterno®); portable grill stand (for use with fuel)); various stainless steel components (insulated coffee urn and its parts (leg stand; body; cover and knob; side handle; internal shank; stand); internal bracket and faucet; juice dispenser knob (brass-plated); knob for stainless steel cover; wire rack; chafer stand (for use with electric heat and Sterno®); carving station frame; adapter for soup heater to convert between quart capacity (electric heat or Sterno®); bar spacing; bar for ice box cover; wine bucket knob; beverage tub; beverage tub (plated in another metal); buffet riser; carving board frame; chafer (used with electric heat and Sterno®); chafing dish for use with grills; coffee pot; coffee urn body; chafer cover (use with electric heat and Sterno®); chafer cover (Sterno® heat); faucet adapter for juice dispenser; faucet ring; food pan; frame for chafer used with electric heat and/or Sterno®; frame for soup heater used with electric heat and/or Sterno®; grill chafer (used with electric heat and Sterno®); grill chafer (used with electric heat and Sterno®) with glass cover; ice box; ice cream box and its parts (insert; cover; knob); insulated milk container; juice dispenser feet; pastry stand; pastry tray; post and spacers for pastry stand; round grill chafer cover with silver plating; serving fork; stand for chafers and/or coffee towers; Sterno® chafer; tile for use with food cooling unit; top nest for juice dispenser; top ring for juice dispenser; water pan; water pan (with silver plating); juice dispenser cover; plastic-coated buffet riser; juice dispenser stand; chrome-plated parts (faucet handle for juice dispenser; faucet set for juice dispenser; flex arms for heat lamp top; faucet body set for juice dispenser without shank; faucet ring for juice dispenser); bent pin for faucet handle for juice dispenser; insert pan for soup heater; ice bucket; spring for faucet; chafer (multi-use); faucet handle for juice dispenser; chafer knob; juice dispenser knob; soup heater cover (electric heat or Sterno®)); various polycarbonate components (body for juice dispenser with stainless steel shank and ice ring; body with shank and ice sleeve for juice dispenser; body with stainless steel frame for juice dispenser; body with stainless steel shank and ice sleeve for juice dispenser; body with stainless steel shank for juice dispenser; carving board); various silver-plated components (juice dispenser knob; ring for juice dispenser faucet nuts; juice dispenser stand); various silver-plated stainless steel components (juice dispenser cover; carving station frame; knob for polycarbonate juice dispenser; stand for polycarbonate juice dispenser; handle for carving display); and, various wood components (juice dispenser stand; buffet riser; carving board) (duty rate ranges from duty-free to 25%). The request indicates that certain materials/components are subject to special duties under Section 301 of the Trade Act of 1974 (Section 301), depending on the country of origin. The applicable Section 301 decisions require subject merchandise to be admitted to FTZs in privileged foreign status (19 CFR 146.41).

Public comment is invited from interested parties. Submissions shall be addressed to the Board's Executive Secretary and sent to: ftz@trade.gov. The closing period for their receipt is November 26, 2019.

A copy of the notification will be available for public inspection in the “Reading Room” section of the Board's website, which is accessible via www.trade.gov/ftz.

For further information, contact Juanita Chen at juanita.chen@trade.gov or 202-482-1378.

Dated: October 10, 2019.
Andrew McGilvray,
Executive Secretary.

[FR Doc. 2019-22658 Filed 10-16-19; 8:45 am]

BILLING CODE 3510-DS-P